DEPARTMENT OF TRANSPORTATION

Federal Aviation Administration

14 CFR Part 39

[Docket No. FAA-2007-27768; Directorate Identifier 2006-NM-174-AD; Amendment 39-15123; AD 2007-14-01]

RIN 2120-AA64

Airworthiness Directives; Airbus Model A330 and A340 Airplanes

AGENCY: Federal Aviation Administration (FAA), Department of Transportation (DOT).

ACTION: Final rule.

SUMMARY: The FAA is adopting a new airworthiness directive (AD) for all Airbus Model A330 and A340 airplanes. This AD requires revising the Airworthiness Limitations Section of the Instructions for Continued Airworthiness to incorporate new limitations for fuel tank systems. This AD results from fuel system reviews conducted by the manufacturer. We are issuing this AD to prevent the potential of ignition sources inside fuel tanks, which, in combination with flammable fuel vapors caused by latent failures, alterations, repairs, or maintenance actions, could result in fuel tank explosions and consequent loss of the airplane.

DATES: This AD becomes effective August 16, 2007. The Director of the Federal Register approved the incorporation by reference of certain publications listed in the AD as of August 16, 2007.

ADDRESSES: You may examine the AD docket on the Internet at http://dms.dot.gov or in person at the U.S. Department of Transportation, Docket Operations, M-30, West Building Ground Floor, Room W12-140, 1200 New Jersey Avenue, SE., Washington, DC.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Examining the Docket

You may examine the airworthiness directive (AD) docket on the Internet at http://dms.dot.gov or in person at the Docket Operations office between 9 a.m. and 5 p.m., Monday through Friday, except Federal holidays. The Docket Operations office (telephone (800) 647-5527) is located on the ground floor of the West Building at the street address stated in the ADDRESSES section.

Discussion

The FAA issued a notice of proposed rulemaking (NPRM) to amend 14 CFR part 39 to include an AD that would apply to all Airbus Model A330 and A340 airplanes. That NPRM was published in the Federal Register on April 5, 2007 (72 FR 16741). That NPRM proposed to require revising the Airworthiness Limitations section of the Instructions for Continued Airworthiness to incorporate new limitations for fuel tank systems.

Comments

We provided the public the opportunity to participate in the development of this AD. We received no comments on the NPRM or on the determination of the cost to the public.

Changes to This AD

We have removed Model A330-302, A330-303, and A340-643 airplanes from the applicability of this AD, since we have not yet certificated those airplane models for operation in the U.S. If these airplane models are certificated, the airworthiness limitations required by this AD will be included as airworthiness limitations in the FAA-approved type design.

In the NPRM, we referred to Airbus A340 Fuel Airworthiness Limitations, Document 95A.1933/05, Issue 1, dated December 19, 2005 (approved by the EASA on April 28, 2006), as the appropriate source of service information for revising the Airworthiness Limitations section of the Instructions for Continued Airworthiness for Model A340 airplanes. We have revised paragraphs (g)(1) and (g)(2) of this AD to also refer to Issue 2, dated October 26, 2006 (approved by the EASA on November 22, 2006); and Issue 3, dated November 23, 2006 (approved by the EASA on February 26, 2007), of the Airbus A340 Fuel Airworthiness Limitations, Document 95A.1933/05, as appropriate sources of service information.

Airbus issued Operator Information Telex (OIT) SE 999.0076/06, dated June 20, 2006, to identify the applicable sections of the Airbus A330 Airplane Maintenance Manual (AMM) necessary for accomplishing the tasks specified in Section 1 of Document 95A.1932/05 and to identify the applicable sections of the Airbus A340 AMM necessary for accomplishing the tasks specified in Section 1 of Document 95A.1933/05. We have added a note to paragraphs (f)(1) and (g)(1) of this AD to refer to that OIT.

Conclusion

We have carefully reviewed the available data and determined that air safety and the public interest require adopting the AD with the changes described previously. We have determined that these changes will neither increase the economic burden on any operator nor increase the scope of the AD.

Costs of Compliance

This AD affects about 27 airplanes of U.S. registry. The required actions take about 2 work hours per airplane, at an average labor rate of $80 per work hour. Based on these figures, the estimated cost of the AD for U.S. operators is $4,320, or $160 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-14-01 Airbus: Amendment 39-15123. Docket No. FAA-2007-27768; Directorate Identifier 2006-NM-174-AD.

Effective Date

(a) This AD becomes effective August 16, 2007.

Affected ADs

(b) None.

Applicability

(c) This AD applies to all Airbus Model A330-201, A330-202, A330-203, A330-223, A330-243, A330-301, A330-321, A330-322, A330-323, A330-341, A330-342, and A330-343 airplanes; and Model A340-211, A340-212, A340-213, A340-311, A340-312, A340-313, A340-541, and A340-642 airplanes; certificated in any category.

Note 1: This AD requires revisions to certain operator maintenance documents to include a new inspection and critical design configuration control limitations (CDCCLs). Compliance with the operator maintenance documents is required by 14 CFR 91.403(c). For airplanes that have been previously modified, altered, or repaired in the areas addressed by these inspections and CDCCLs, the operator may not be able to accomplish the inspection and CDCCLs described in the revisions. In this situation, to comply with 14 CFR 91.403(c), the operator must request approval for an alternative method of compliance according to paragraph (i) of this AD. The request should include a description of changes to the required inspections and CDCCLs that will preserve the critical ignition source prevention feature of the affected fuel system.

Unsafe Condition

(d) This AD results from fuel system reviews conducted by the manufacturer. We are issuing this AD to prevent the potential of ignition sources inside fuel tanks, which, in combination with flammable fuel vapors caused by latent failures, alterations, repairs, or maintenance actions, could result in fuel tank explosions and consequent loss of the airplane.

Compliance

(e) You are responsible for having the actions required by this AD performed within the compliance times specified, unless the actions have already been done.

Revise Airworthiness Limitations Section (ALS) for Model A330 Airplanes

(f) For Model A330-201, A330-202, A330-203, A330-223, A330-243, A330-301, A330-321, A330-322, A330-323, A330-341, A330-342, and A330-343 airplanes: Do the actions specified in paragraphs (f)(1) and (f)(2) of this AD.

(1) Within 3 months after the effective date of this AD, revise the ALS of the Instructions for Continued Airworthiness to incorporate Airbus A330 ALS Part 5—Fuel Airworthiness Limitations, dated April 11, 2006, as defined in Airbus A330 Fuel Airworthiness Limitations, Document 95A.1932/05, Issue 2, dated October 26, 2006 (approved by the European Aviation Safety Agency (EASA) on November 17, 2006), Section 1, “Maintenance/Inspection Tasks” (hereafter referred to as “Section 1 of Document 95A.1932/05”). For the task identified in Section 1 of Document 95A.1932/05, the initial compliance time starts from the later of the times specified in paragraphs (f)(1)(i) and (f)(1)(ii) of this AD, and the repetitive inspection must be accomplished thereafter at the interval specified in Section 1 of Document 95A.1932/05.

(i) The effective date of this AD.

(ii) The date of issuance of the original French standard airworthiness certificate or the date of issuance of the original French export certificate of airworthiness.

Note 2: Airbus Operator Information Telex (OIT) SE 999.0076/06, dated June 20, 2006, identifies the applicable sections of the Airbus A330 airplane maintenance manual (AMM) necessary for accomplishing the tasks specified in Section 1 of Document 95A.1932/05.

(2) Within 12 months after the effective date of this AD, revise the ALS of the Instructions for Continued Airworthiness to incorporate Airbus A330 ALS Part 5—Fuel Airworthiness Limitations, dated April 11, 2006, as defined in Airbus A330 Fuel Airworthiness Limitations, Document 95A.1932/05, Issue 2, dated October 26, 2006 (approved by the EASA on November 17, 2006), Section 2, “Critical Design Configuration Control Limitations.”

Revise ALS for Model A340 Airplanes

(g) For Model A340-211, A340-212, A340-213, A340-311, A340-312, A340-313, A340-541, and A340-642 airplanes: Do the actions specified in paragraphs (g)(1) and (g)(2) of this AD.

(1) Within 3 months after the effective date of this AD, revise the ALS of the Instructions for Continued Airworthiness to incorporate Airbus A340 ALS Part 5—Fuel Airworthiness Limitations, dated April 11, 2006, as defined in Section 1, “Maintenance/Inspection Tasks,” of Airbus A340 Fuel Airworthiness Limitations, Document 95A.1933/05, Issue 1, dated December 19, 2005 (approved by the EASA on April 28, 2006); Issue 2, dated October 26, 2006 (approved by the EASA on November 22, 2006); or Issue 3, dated November 23, 2006 (approved by the EASA on February 26, 2007) (all of these issues are hereafter referred to as “Section 1 of Document 95A.1933/05,” as applicable). For the task identified in Section 1 of Document 95A.1933/05, the initial compliance time starts from the effective date of this AD, and the repetitive inspection must be accomplished thereafter at the interval specified in Section 1 of Document 95A.1933/05.

Note 3: Airbus OIT SE 999.0076/06, dated June 20, 2006, identifies the applicable sections of the Airbus A340 AMM necessary for accomplishing the tasks specified in Section 1 of Document 95A.1933/05.

(2) Within 12 months after the effective date of this AD, revise the ALS of the Instructions for Continued Airworthiness to incorporate Airbus A340 ALS Part 5—Fuel Airworthiness Limitations, dated April 11, 2006, as defined in Section 2, “Critical Design Configuration Control Limitations,” of Airbus A340 Fuel Airworthiness Limitations, Document 95A.1933/05, Issue 1, dated December 19, 2005 (approved by the EASA on April 28, 2006); Issue 2, dated October 26, 2006 (approved by the EASA on November 22, 2006); or Issue 3, dated November 23, 2006 (approved by the EASA on February 26, 2007).

No Alternative Inspections, Inspection Intervals, or CDCCLs

(h) Except as provided by paragraph (i) of this AD: After accomplishing the actions specified in paragraph (f) or (g) of this AD, as applicable, no alternative inspections, inspection intervals, or CDCCLs may be used.

Alternative Methods of Compliance (AMOCs)

(i)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(j) EASA airworthiness directive 2006-0205, dated July 11, 2006; and EASA airworthiness directive 2007-0023, dated January 25, 2007; also address the subject of this AD.

Material Incorporated by Reference

(k) You must use the service information listed in Table 1 of this AD, as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Table 1.—Material Incorporated by Reference
Service information | Issue level | Date
Airbus A330 ALS Part 5—Fuel Airworthiness Limitations | Original | April 11, 2006.
Airbus A330 Fuel Airworthiness Limitations, Document 95A.1932/05 | Issue 2 | October 26, 2006.
Airbus A340 ALS Part 5—Fuel Airworthiness Limitations | Original | April 11, 2006.
Airbus A340 Fuel Airworthiness Limitations, Document 95A.1933/05 | Issue 1 | December 19, 2005.
Airbus A340 Fuel Airworthiness Limitations, Document 95A.1933/05 | Issue 2 | October 26, 2006.
Airbus A340 Fuel Airworthiness Limitations, Document 95A.1933/05 | Issue 3 | November 23, 2006.

Issued in Renton, Washington, on June 25, 2007.
Ali Bahrami,
Manager, Transport Airplane Directorate, Aircraft Certification Service.

[FR Doc. E7-13117 Filed 7-11-07; 8:45 am]

BILLING CODE 4910-13-P